DEPARTMENT OF TRANSPORTATION

Federal Aviation Administration

14 CFR Part 97

[Docket No. 30756; Amdt. No. 3402]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 9, 2010. The compliance date for each SIAP, associated Takeoff Minimums, and ODP is specified in the amendatory provisions.

The incorporation by reference of certain publications listed in the regulations is approved by the Director of the Federal Register as of December 9, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on November 26, 2010.
Ray Towles,
Deputy Director, Flight Standards Service.

Adoption of the Amendment

Accordingly, pursuant to the authority delegated to me, title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 JAN 2011

Fairbanks, AK, Fairbanks Intl, ILS OR LOC RWY 20R, ILS RWY 20R (SA CAT II), ILS RWY 20R, Amdt 23

Koyukuk, AK, Koyukuk, DIBVY TWO, Graphic Obstacle DP

Platinum, AK, Platinum, Takeoff Minimums and Obstacle DP, Amdt 1

Tucson, AZ, Tucson Intl, RNAV (GPS) RWY 3, Amdt 1

Tucson, AZ, Tucson Intl, RNAV (GPS) RWY 29L, Amdt 1

Bakersfield, CA, Meadows Field, RNAV (GPS) RWY 30R, Amdt 1A

Hayward, CA, Hayward Executive, Takeoff Minimums and Obstacle DP, Amdt 1

Watsonville, CA, Watsonville Muni, Takeoff Minimums and Obstacle DP, Amdt 5

Watsonville, CA, Watsonville Muni, Watsonville ONE Graphic Obstacle DP

Sarasota/Bradenton, FL, Sarasota/Bradenton Intl, ILS OR LOC RWY 14, Amdt 6

Sarasota/Bradenton, FL, Sarasota/Bradenton Intl, ILS OR LOC RWY 32, Amdt 8

Sarasota/Bradenton, FL, Sarasota/Bradenton Intl, RNAV (GPS) RWY 4, Amdt 2

Sarasota/Bradenton, FL, Sarasota/Bradenton Intl, RNAV (GPS) RWY 14, Amdt 3

Sarasota/Bradenton, FL, Sarasota/Bradenton Intl, RNAV (GPS) RWY 22, Amdt 2

Sarasota/Bradenton, FL, Sarasota/Bradenton Intl, RNAV (GPS) RWY 32, Amdt 3

Sarasota/Bradenton, FL, Sarasota/Bradenton Intl, VOR RWY 14, Amdt 18

Sarasota/Bradenton, FL, Sarasota/Bradenton Intl, VOR RWY 32, Amdt 10

Greenfield, IA, Greenfield Muni, RNAV (GPS) RWY 7, Orig

Greenfield, IA, Greenfield Muni, RNAV (GPS) RWY 25, Orig

Winterset, IA, Winterset-Madison County, RNAV (GPS) RWY 14, Orig

Winterset, IA, Winterset-Madison County, RNAV (GPS) RWY 32, Orig

Winterset, IA, Winterset-Madison County, VOR/DME-A, Amdt 2

Chicago/Rockford, IL, Chicago/Rockford Intl, RNAV (GPS) RWY 1, Amdt 1

Chicago/Rockford, IL, Chicago/Rockford Intl, RNAV (GPS) RWY 19, Amdt 1

Chicago/Rockford, IL, Chicago/Rockford Intl, RNAV (GPS) Z RWY 19, Orig-A, CANCELLED

Fort Wayne, IN, Smith Field, GPS RWY 13, Orig-A, CANCELLED

Fort Wayne, IN, Smith Field, RNAV (GPS) RWY 5, Orig

Fort Wayne, IN, Smith Field, RNAV (GPS) RWY 13, Orig

Fort Wayne, IN, Smith Field, RNAV (GPS) RWY 23, Orig

Fort Wayne, IN, Smith Field, RNAV (GPS) RWY 31, Orig

Fort Wayne, IN, Smith Field, VOR RWY 13, Amdt 10

Clay Center, KS, Clay Center Muni, GPS RWY 17, Orig, CANCELLED

Clay Center, KS, Clay Center Muni, NDB RWY 35, Amdt 2

Clay Center, KS, Clay Center Muni, RNAV (GPS) RWY 17, Orig

Clay Center, KS, Clay Center Muni, RNAV (GPS) RWY 35, Orig

Clay Center, KS, Clay Center Muni, Takeoff Minimums and Obstacle DP, Amdt 1

Herington, KS, Herington Rgnl, NDB RWY 17, Amdt 2

Herington, KS, Herington Rgnl, NDB RWY 35, Amdt 2

Herington, KS, Herington Rgnl, RNAV (GPS) RWY 17, Orig

Herington, KS, Herington Rgnl, RNAV (GPS) RWY 35, Orig

Washington, KS, Washington County Memorial, NDB-A, Amdt 1

Washington, KS, Washington County Memorial, RNAV (GPS) RWY 17, Orig

Washington, KS, Washington County Memorial, RNAV (GPS) RWY 35, Orig

Washington, KS, Washington County Memorial, Takeoff Minimums and Obstacles DP, Orig

Northampton, MA, Northampton, Takeoff Minimums and Obstacle DP, Amdt 4

Baltimore, MD, Martin State, RNAV (GPS) RWY 33, Amdt 1

Ada/Twin Valley, MN, Norman County Ada/Twin Valley, Takeoff Minimums and Obstacle DP, Orig

Buffalo, MN, Buffalo Muni, Takeoff Minimums and Obstacle DP, Orig

Tracy, MN, Tracy Muni, Takeoff Minimums and Obstacle DP, Orig

St Louis, MO, Lambert-St. Louis Intl, RNAV (GPS) RWY 30R, Amdt 1B

Winston-Salem, NC, Smith Reynolds, RNAV (GPS) RWY 15, Amdt 1

Stanley ND, Stanley Muni, Takeoff Minimums and Obstacle DP, Orig

Broken Bow, NE, Broken Bow Muni, Takeoff Minimums and Obstacle DP, Amdt 3

Scribner, NE, Scribner State, Takeoff Minimums and Obstacle DP, Orig

Reno, NV, Reno/Tahoe Intl, VOR-D, Amdt 7

Akron, OH, Akron-Canton Rgnl, ILS OR LOC RWY 1, Amdt 38

Akron, OH, Akron-Canton Rgnl, ILS OR LOC RWY 5, Orig

Akron, OH, Akron-Canton Rgnl, ILS OR LOC RWY 19, Amdt 8

Akron, OH, Akron-Canton Rgnl, ILS OR LOC RWY 23, Amdt 11

Akron, OH, Akron-Canton Rgnl, RADAR-1, Amdt 24

Akron, OH, Akron-Canton Rgnl, VOR RWY 5, Amdt 3

Akron, OH, Akron-Canton Rgnl, VOR RWY 23, Amdt 10

Bowling Green, OH, Wood County, RNAV (GPS) RWY 10, Orig-B

Bowling Green, OH, Wood County, RNAV (GPS) RWY 36, Orig-A

Port Clinton, OH, Carl R Keller Field, VOR/DME-A, Amdt 9A

Hinton, OK, Hinton Muni, Takeoff Minimums and Obstacle DP, Orig

Somerset, PA, Somerset County, NDB RWY 25, Amdt 7

Wilkes-Barre/Scranton, PA, Wilkes-Barre/Scranton Intl, NDB-A, Amdt 17

York, PA, York, Takeoff Minimums and Obstacle DP, Amdt 1

Bamberg, SC, Bamberg County, RNAV (GPS) RWY 5, Orig

Bamberg, SC, Bamberg County, RNAV (GPS) RWY 23, Orig

Bamberg, SC, Bamberg County, Takeoff Minimums and Obstacle DP, Orig

Sumter, SC, Sumter, ILS OR LOC/DME RWY 23, Orig

Sumter, SC, Sumter, RNAV (GPS) Z RWY 23, Amdt 1

Rapid City, SD, Rapid City Rgnl, ILS OR LOC RWY 32, Amdt 19

Bristol/Johnson/Kingsport, TN, Tri-Cities Rgnl TN/VA, Takeoff Minimums and Obstacle DP, Amdt 7

Bristol/Johnson/Kingsport, TN, Tri-Cities Rgnl TN/VA, TRICITIES ONE Graphic Obstacle DP

Childress, TX, Childress Muni, GPS RWY 35, Orig-A, CANCELLED

Childress, TX, Childress Muni, RNAV (GPS) RWY 36, Orig

Childress, TX, Childress Muni, VOR RWY 36, Amdt 10A

Salt Lake City, UT, Salt Lake City Intl, ILS OR LOC RWY 16L, ILS RWY 16L (CAT II), ILS RWY 16L (CAT III), Amdt 3

Salt Lake City, UT, Salt Lake City Intl, ILS OR LOC RWY 16R, ILS RWY 16R (CAT II), ILS RWY 16R (CAT III), Amdt 3

Salt Lake City, UT, Salt Lake City Intl, ILS OR LOC RWY 17, ILS RWY 17 (CAT II), Amdt 13

Salt Lake City, UT, Salt Lake City Intl, ILS OR LOC RWY 34L, ILS RWY 34L (CAT II), ILS RWY 34L (CAT III), Amdt 2

Salt Lake City, UT, Salt Lake City Intl, ILS OR LOC RWY 34R, ILS RWY 34R (CAT II), ILS RWY 34R (CAT III), Amdt 3

Salt Lake City, UT, Salt Lake City Intl, ILS OR LOC/DME RWY 35, Amdt 3

Salt Lake City, UT, Salt Lake City Intl, RNAV (GPS) RWY 16L, Amdt 1

Salt Lake City, UT, Salt Lake City Intl, RNAV (GPS) RWY 16R, Amdt 1

Salt Lake City, UT, Salt Lake City Intl, RNAV (GPS) RWY 17, Amdt 1

Crewe, VA, Crewe Muni, RNAV (GPS) RWY 15, Orig

Crewe, VA, Crewe Muni, RNAV (GPS) RWY 33, Orig

Crewe, VA, Crewe Muni, Takeoff Minimums and Obstacle DP, Orig

Galax/Hillsville, VA, Twin County, NDB-A, Amdt 6, CANCELLED

Kenbridge, VA, Lunenburg County, RNAV (GPS) RWY 2, Orig

Kenbridge, VA, Lunenburg County, RNAV (GPS) RWY 20, Orig

Kenbridge, VA, Lunenburg County, Takeoff Minimums and Obstacle DP, Orig

Williamsburg, VA, Williamsburg-Jamestown, RNAV (GPS)-C, Orig

Williamsburg, VA, Williamsburg-Jamestown, VOR-B, Amdt 3

[FR Doc. 2010-30586 Filed 12-8-10; 8:45 am]

BILLING CODE 4910-13-P